ENVIRONMENTAL PROTECTION AGENCY

[ER-FRL-6650-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in the Federal Register dated April 2, 2004 (69 FR 17403).

Draft EISs

ERP No. D-COE-E36182-KY Rating LO, Pike County (Levisa Fork) Section 202 Flood Damage Reduction Project, Design, Construction and Implementation, Flood Damage Reduction Measures, Appalachian Mountain, Big Sandy River, Pike County, KY.

Summary: EPA has no objections to the construction of the flood protection measures.

ERP No. D-FHW-G40181-AR Rating LO, Conway Western Arterial Loop, Construct from South and West sides of Conway, Faulkner County, AR.

Summary: EPA has no objections to the proposed action.

ERP No. D-FHW-H40181-00 Rating LO, South Omaha Veterans Memorial Bridge Improvements, Across the Missouri River for Highway US-275 between the Cities of Omaha, Nebraska and Council Bluffs, Iowa, NPDES and US Army COE Section 404 Permit, NE and IA.

Summary: EPA has no objections to the proposed project.

ERP No. D-USA-E11052-GA Rating EC1, Digital Multi-Purpose Range Complex at Fort Benning, Construction, Operation and Maintenance, Gunnery Training Facilities for the Bradley Fighting Vehicle (BFV) and the Abrams M1A1 Tank System (Tank), Fort Benning, GA.

Summary: EPA expressed concerns regarding noise impacts that are expected to increase beyond the boundaries of the Fort Benning reservation. EPA requested monitoring of noise to ensure that episodes do not increase in degree and scope.

Final EISs

ERP No. F-CGD-L59001-WA Seattle Monorail Project (SMP), Green Line 14-Mile Monorail Transit System Construction and Operation, Reviewing a Water Crossing at the Lake Washington Ship Canal Bridge and Duwamish Waterway Bridge Modification, USCG Bridge, Endangered Species Act Section 7 and U.S. Army COE Section 404 Permits Issuance, City of Seattle, WA.

Summary: No formal comment letter was sent to the preparing agency.

ERP No. F-COE-H34028-00 Missouri River Master Water Plan Operation, Multipurpose Project, SD, NE, IA, MO.

Summary: EPA recommended that the Corps work closely with the U.S. Fish and Wildlife Service to comply with the requirements of the Endangered Species Act, with a particular emphasis on measures needed to protect the pallid sturgeon. EPA also expressed continued concerns on impacts to water quality and tribal cultural resources.

ERP No. F-FTA-K54028-CA Transbay Terminal/Caltrain Development Downtown Extension/Redevelopment Project, New Multi-Modal Terminal Construction, Peninsula Corridor Service Extension and Establishment of a Redevelopment Plan, Funding, San Francisco, San Mateo and Santa Clara Counties, CA.

Summary: EPA believes that the document adequately discusses the environmental impacts of the proposed project and has no objections to the action as proposed.

ERP No. F-TVA-E39062-00 Programmatic EIS—Tennessee Valley Authority Reservoir Operations Study, Implementation, TN, AL, KY, GA, MS, NC and VA.

Summary: EPA expressed concerns regarding the overall operating uncertainties of the new reservoir operation system, as well as whether the proposed water flows and volumes will be adequate for compliance with relevant water permits, water quality criteria and statutes.

Dated: April 20, 2004.
Ken Mittelholtz,
Environmental Protection Agency, Office of Federal Activities.

[FR Doc. 04-9290 Filed 4-22-04; 8:45 am]

BILLING CODE 6560-50-P